SMALL BUSINESS ADMINISTRATION

13 CFR Parts 121, 124, 125, 126, and 127

RIN 3245-AG23

Small Business Size and Status Integrity

AGENCY: U.S. Small Business Administration (SBA).

ACTION: Proposed rule; reopening of comment period.

SUMMARY: SBA is reopening the comment period for the proposed rule published in the Federal Register on October 7, 2011. In that rule SBA proposed to amend its regulations to implement provisions of the Small Business Jobs Act of 2010 (Jobs Act) pertaining to small business size and status integrity. SBA proposed to amend its program regulations to implement statutory provisions establishing that there is a presumption of loss equal to the value of the contract or other instrument when a concern willfully seeks and receives an award by misrepresentation. SBA proposed to amend its program regulations to implement statutory provisions that provide that the submission of an offer or application for an award intended for small business concerns will be deemed a size or status certification or representation in certain circumstances. SBA proposed to amend its program regulations to implement statutory provisions that provide that an authorized official must sign in connection with a size or status certification or representation for a contract or other instrument. SBA proposed to amend its regulations to implement statutory provisions that provide that concerns that fail to update their size or status in the Online Representations and Certifications Application (ORCA) database (or any successor thereto) at least annually shall no longer be identified in the database as small or some other socioeconomic status, until the representation is updated. SBA proposed to amend its regulations to clarify when size is determined for purposes of entry into the 8(a) Business Development and HUBZone programs. The proposed rule provided a 30-day comment period closing on November 7, 2011.

SBA is reopening the comment period for an additional 30 days in response to the significant level of interest generated by the proposed rule among small businesses. Given the scope of the proposed rule and the nature of the issues raised by the comments received to date, SBA believes that affected businesses need more time to review the proposal and prepare their comments.

DATES: The comment period for the proposed rule published on October 7, 2011 (76 FR 62313) is extended through December 8, 2011.

ADDRESSES: You may submit comments, identified by RIN: 3245-AG23, by any of the following methods:

• Federal eRulemaking Portal: http://www.regulations.gov. Follow the instructions for submitting comments.

• Mail, for paper, disk, or CD/ROM submissions: Dean Koppel, U.S. Small Business Administration, Office of Government Contracting, 409 Third Street SW., 8th Floor, Washington, DC 20416.

• Hand Delivery/Courier: Dean Koppel, U.S. Small Business Administration, Office of Government Contracting, 409 Third Street SW., 8th Floor Washington, DC 20416.

SBA will post all comments on http://www.regulations.gov. If you wish to submit confidential business information (CBI) as defined in the User Notice at http://www.Regulations.gov, please submit the information to Dean Koppel, U.S. Small Business Administration, Office of Government Contracting, 409 Third Street SW., 8th Floor, Washington, DC 20416, or send an email to Dean.Koppel@sba.gov. Highlight the information that you consider to be CBI and explain why you believe SBA should hold this information as confidential. SBA will review the information and make the final determination on whether it will publish the information or not.

FOR FURTHER INFORMATION CONTACT: Dean Koppel, Office of Government Contracting, 409 Third Street SW., Washington, DC 20416; (202) 205-9751; Dean.Koppel@sba.gov.

Dated: November 2, 2011.
Joseph G. Jordan,
Associate Administrator, Government Contracting and Business Development.

[FR Doc. 2011-28827 Filed 11-7-11; 8:45 am]

BILLING CODE 8025-01-P